FEDERAL COMMUNICATIONS COMMISSION

47 CFR Part 63

[CC Docket No. 01-150; FCC 02-78]

Implementation of Further Streamlining Measures for Domestic Section 214 Authorizations

Correction

In rule document 02-9101 beginning on page 18827, in the issue of Wednesday, April 17, 2002, make the following corrections:

§ 63.03 [Corrected]

1. On page 18831, in the second column, in § 63.03, “paragraph (b)(2)i should read “(b)(2)(i)”.

2. On page 18831, in the same column, in § 63.03, “paragraph (b)(2)ii” should read “ (b)(2)(ii)”.

3. On page 18831, in the same column, in the same section, paragraph (b)(2)iii” should read “ (b)(2)(iii)”.

[FR Doc. C2-9101 Filed 4-30-02; 8:45 am]

BILLING CODE 1505-01-D

DEPARTMENT OF TRANSPORTATION

Federal Aviation Administration

14 CFR Part 39

[Docket No. 2001-CE-47-AD; Amendment 39-12709; AD 2002-08-02]

RIN 2129-AA64

Airworthiness Directives; Fairchild Aircraft, Inc. Models SA226 and SA227 Series Airplanes

Correction

In rule document 02-9574 beginning on page 19327 in the issue of Friday, April 19, 2002, make the following corrections:

§ 39.13 [Corrected]

1. On page 19329, §39.13, in the table, under the column, “Compliance”, in the third paragraph, in the fifth and sixth lines, “(the effective date of AD 2001-20-154)” should read “(the effective date of AD 2001-20-14)”.

2. On page 19329, §39.13, in the same table, under the column, “Procedures”, in the first paragraph, in the seventh line, “paragraph (i) of number (P/N) this AD.” should read “paragraph (i) of this AD.”.

3. On page 19329, in the same section, in the same table, under the same column, in the third paragraph, in the third line, “226-26-SA226-003” should read “226-26-003”.

[FR Doc. C2-9574 Filed 4-30-02; 8:45 am]

BILLING CODE 1505-01-D

DEPARTMENT OF TRANSPORTATION

Federal Aviation Administration

[Summary Notice No. PE-2002-21]

Petitions for Exemption; Summary of Petitions Received

Correction

In notice document 02-7484 appearing on page 15000 in the issue of Thursday, March 28, 2002, make the following corrections:

1. In the third column, under “Description of Relief Sought:”, in the third line “five” should read “three ”.

2. In the same column, also under “Description of Relief Sought:”, in the fifth line “747” should read “767 ”.

[FR Doc. C2-7484 Filed 4-30-02; 8:45 am]

BILLING CODE 1505-01-D

DEPARTMENT OF TRANSPORTATION

Research and Special Programs Administration

Office of Hazardous Materials Safety; Notice of Applications for Exemtions

Correction

In notice document 02-9413 beginning on page 19313 in the issue of Thursday, April 18, 2002, the table is corrected to read as set forth below:

New Exemptions
Application No. | Docket No. | Applicant | Regulation(s) affected | Nature of exemption thereof
12966-N |  | Scientific Cylinder Corporation, Englewood, CO | 49 CFR (e)(8), (e)(15)(vi) and (e)(19), 173.34(e)(1), (e)(3), (e)(5), (e)(6), (e)(7) | To authorize the transportation in commerce of DOT-3AL cyclinders manufactured from 6351 alloy which have been examined by ultrasonic inspection in lieu of the internal visual test. (modes 1, 2, 3, 4)
22967-N |  | Reilly Industries, Inc., Indianapolis, IN | 49 CFR 172.446, 172.560, 173.213 | To authorize the transportation in commerce of fused solid coal tar enamel in non-DOT specification open-top or closed-top sift proof metal packagings when the amounts meet or exceed the reportable quantity. (modes 1, 2, 3)
12969-N |  | Arrowhead Industrial Services Inc., Graham, NC | 49 CFR 173.301(h), 173.302, 173.306(d)(3) | To authorize the transportation in commerce of non-DOT specification cyclinders containing Division 2.2 material overpacked in strong outside packaging for transporting to remote test sites. (mode 1)
12970-N |  | IMR Corporation Tulsa, OK | 49 CFR 172.202(a)(1) | To authorize the transportation in commerce of limited quantities of hazardous material with alternative shipping name on shipping papers. (mode 1)
12972-N |  | Voltaix, Inc., North Branch, NJ | 49 CFR 173.301(j) | To authorize the transportation in commerce of non-DOT specification cylinders for export containing various compressed gases without pressure relief devices. (modes 1, 3)
12978-N |  | Genesis Environmental, Ltd., McKeesport, PA | 49 CFR 172.101 Col. 8(b) & 8(c), 173.197 | To authorize the transportation in commerce of solid regulated medical waste in non-DOT specification packaging consisting of a bulk outer packaging and a non-bulk inner packaging. (mode 1)
12979-N |  | Medical Microwave, Inc., Livington, NJ | 49 CFR 172.101 Col. 8(b) & 8(c), 173.197 | To authorize the transportation in commerce of solid regulated medical waste in non-DOT specification packaging consisting of a bulk outer packaging and a non-bulk inner packaging. (mode 1)
12982-N |  | Arthur L. Fleener, Ames, IA | 49 CFR 175.320 | To authorize the transportation in commerce of Division 1.1 explosives, which are forbidden for shipment by passenger-carrying aircraft to remote areas when no other means of transportation is available. (mode 5)

[FR Doc. C2-9413 Filed 4-30-02; 8:45 am]

BILLING CODE 1505-01-D